FEDERAL COMMUNICATIONS COMMISSION

[OMB 3060-0207]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before July 18, 2016. If you anticipate that you will be submitting comments, but find it difficult to do so within the period of time allowed by this notice, you should advise the contact listed below as soon as possible.

ADDRESSES: Direct all PRA comments to Nicole Ongele, FCC, via email PRA@fcc.gov and to Nicole.Ongele@fcc.gov.

FOR FURTHER INFORMATION CONTACT: For additional information about the information collection, contact Nicole Ongele at (202) 418-2991.

SUPPLEMENTARY INFORMATION: OMB Control Number: 3060-0207.

Title: Part 11—Emergency Alert System (EAS), Order, FCC 16-32.

Form Number: N/A.

Type of Review: Revision of a currently approved collection.

Respondents: Business or other for-profit entities, not-for-profit institutions, and state, local or tribal government.

Number of Respondents and Responses: 63,080 respondents; 3,596,546 responses.

Estimated Time per Response: 1 hour (EAS Participants); 20 hours (SECCs).

Frequency of Response: One-time reporting requirement and recordkeeping requirement.

Obligation to Respond: Obligatory for all entities required to participate in EAS. Statutory authority for this collection of information is contained in 47 U.S.C. 154(i) and 606 of the Communications Act of 1934, as amended.

Total Annual Burden: 110,476 hours.

Total Annual Cost: No cost.

Privacy Impact Assessment: No Impact(s).

Nature and Extent of Confidentiality: There is no need for confidentiality.

Needs and Uses: Part 11 contains rules and regulations addressing the nation's Emergency Alert System (EAS). The EAS provides the President with the capability to provide immediate communications and information to the general public at the national, state and local area level during periods of national emergency. The EAS also provides state and local governments and the National Weather Service with the capability to provide immediate communications and information to the general public concerning emergency situations posing a threat to life and property. State and local use of the EAS is required to be described in State EAS Plans that are administered by State Emergency Communications Committees (SECC) and submitted to the FCC for approval.

In the Third Report and Order in EB Docket No. 04-296, FCC 11-12, the Commission adopted rules establishing a regulatory structure for a national test of the EAS. In order for the Commission to determine the extent to which the test, and by extension the EAS, was successful, the FCC adopted rules requiring EAS Participants, within forty five (45) days of the date of the first national EAS test, to record and submit to the Commission the following test-related diagnostic information for each alert received from each message source monitored at the time of the national test:

• Whether they received the alert message during the designated test;

• whether they retransmitted the alert;

• if they were not able to receive and/or transmit the alert, their `best effort' diagnostic analysis regarding the cause(s) for such failure;

• a description of their station identification and level of designation (PEP, LP-1, etc.);

• the date/time of receipt of the EAN message by all stations; the date/time of PEP station acknowledgement of receipt of the EAN message to FOC;

• the date/time of initiation of actual broadcast of the Presidential message;

• the date/time of receipt of the EAT message by all stations;

• who they were monitoring at the time of the test, and the make and

• model number of the EAS equipment that they utilized.

The Third Report and Order indicates that the national tests of EAS, and related information collections will likely be carried out on an annual basis. On March 10, 2010, OMB approved the collection as indicated by the related Notice of Office of Management and Budget Action notification.

The FCC is submitting this information collection to the Office of Management and Budget (OMB) as a revision of the previously approved information collection that established the mandatory Electronic Test Reporting System (ETRS) that EAS Participants must utilize to file identifying and test result data as part of their participation in nationwide EAS testing. Specifically, the Order adopted in EB Docket No. 04-296, FCC 16-32, amends the State EAS Plan filing requirements set forth at Section 11.21 of the Commission's rules to require EAS Participants (i.e., the broadcasters, cable systems, and other service providers subject to the FCC's EAS rules) to provide the following information to their respective SECC, who in turn will include such information in the State EAS Plan submitted to the Commission for approval:

• A description of any actions taken by the EAS Participant (acting individually, in conjunction with other EAS Participants in the geographic area, and/or in consultation with state and local emergency authorities), to make EAS alert content available in languages other than English to its non-English speaking audience(s);

• A description of any future actions planned by the EAS Participant, in consultation with state and local emergency authorities, to provide EAS alert content in languages other than English to its non-English speaking audience(s), along with an explanation for the EAS Participant's decision to plan or not plan such actions; and

• Any other relevant information that the EAS Participant may wish to provide.

In addition, in the event that there is a material change to any of the information that EAS Participants are required to furnish their respective SECCs, EAS Participants must, within 60 days of the occurrence of such material change, submit aa letter to their respective SECCs, copying the Commission's Public Safety and Homeland Security Bureau (Bureau) that describe such change. The SECCs are required to incorporate the information in such letters as amendments to the State EAS Plans on file with the Bureau.

This information will be used by FCC staff to gauge the effectiveness of the EAS's capacity to disseminate in-language EAS emergency alert content to persons who communicate in a language other than English or may have a limited understanding of the English language; to determine whether private and local efforts to disseminate EAS multilingual content might be incorporated into the overall national EAS structure; and to confirm that private and local EAS multilingual operations are consistent with national plans, FCC regulations, and EAS operation.

The Commission expects that the costs to EAS Participants to comply with these reporting requirements will be minimal, and largely limited to internal administrative charges associated with drafting a brief statement, and submitting that statement, and any other relevant information that the EAS Participant may wish to provide to their SECC for inclusion into the State EAS Plan for the state in which the EAS Participant operates. The Commission further expects that the vast majority of EAS Participants are not engaged in multilingual EAS activities and therefore will need to submit nothing more than a very brief statement to their SECC explaining their decision to plan or not plan future actions to provide EAS alert content in languages other than English to their non-English speaking audience(s). For the presumably small percentage of EAS Participants that actually are engaged in multilingual EAS activities, the filing will merely require that they supply a summary of actions they already have taken in this regard. Accordingly, the FCC estimates that complying with the reporting requirement will take EAS Participants, on average, approximately one hour. The FCC estimates that compiling the EAS Participant summaries of multilingual EAS activities and incorporating such information into the State EAS Plan will take SECCs, on average, approximately 20 hours.

The following information collection contained in part 11 may be impacted by these rule amendments: Section 11.21 requires that state and local EAS plans be reviewed and approved by the Chief, Public Safety and Homeland Security, prior to implementation to ensure that they are consistent with national plans, FCC regulations, and EAS operation.

Federal Communications Commission.
Marlene H. Dortch,
Secretary.

[FR Doc. 2016-11583 Filed 5-16-16; 8:45 am]

BILLING CODE 6712-01-P